ENVIRONMENTAL PROTECTION AGENCY

[FRL-6966-5]

Final Reissuance of the National Pollutant Discharge Elimination System (NPDES) Storm Water Multi-Sector General Permits for Industrial Activities for Alaska and for Indian Country in Montana

AGENCY: Environmental Protection Agency (EPA).

ACTION: Notice of final NPDES storm water general permits for Alaska and for Indian country in Montana.

SUMMARY: This action provides notice of the reissuance of the “Final National Pollutant Discharge Elimination System (NPDES) Storm Water Multi-Sector General Permit for Industrial Activities” for the State of Alaska, and for Indian country within the State of Montana.

DATES: Today's action shall be effective on April 16, 2001. This effective date is necessary to provide dischargers with the immediate opportunity to comply with Clean Water Act requirements in light of the expiration of the existing Multi-Sector General Permit for the State of Alaska on February 9, 2001, and for the existing Baseline Industrial General Permit for Indian country lands within the State of Montana on September 9, 1997. The deadline for submission of notices of intent from sources in each of these areas is provided as part of this action.

ADDRESSES: The index to the administrative record for these final Multi-Sector General Permit is available at the appropriate Regional office or from the EPA Water Docket office in Washington, D.C. The administrative record, including documents immediately referenced in this reissuance notice, the reissuance of the permit for other areas of the country on October 30, 2000, and applicable documents used to support the original issuance of the Multi-Sector General Permits in 1995, are stored at the EPA Water Docket Office at the following address: Water Docket, MC-4101, U.S. EPA, 401 M Street SW, Room EB-57, Washington, D.C. 20460. The records are available for inspection from 9 a.m. to 4 p.m. Monday through Friday, excluding legal holidays. For appointments to examine any portion of the administrative record, please call the Water Docket Office at (202) 260-3027. A reasonable fee may be charged for copying. Specific record information can also be made available at the appropriate Regional Office upon request.

In accordance with 40 CFR 23.2, the permit reissuance for the State of Alaska and for Indian country within the State of Montana shall be considered final for the purposes of judicial review at 1 p.m. (Eastern time) on April 30, 2001.

FOR FURTHER INFORMATION CONTACT: Misha Vakoc, EPA Region 10, (206) 553-6650; vakoc.misha@epa.gov for Alaska; or Vern Berry, EPA Region 8, (303) 312-6234; berry.vern@epa.gov for Montana Indian country.

SUPPLEMENTARY INFORMATION:

I. Introduction

On October 30, 2000 (65 FR 64746), EPA published final NPDES Multi-Sector General Permits (MSGP) for storm water discharges associated with industrial activity in the states of Arizona, Idaho, Maine, Massachusetts, New Hampshire, and New Mexico; the Commonwealth of Puerto Rico; the District of Columbia; the Territories of Johnson Atoll, American Samoa, Guam, the Commonwealth of Northern Mariana Islands, Midway and Wake Islands; Indian Country lands in Alaska, Arizona, California, Colorado, Connecticut, Florida, Idaho, Louisiana, Maine, Massachusetts, New Mexico, Nebraska, Nevada, North Dakota, Oklahoma, Oregon, Rhode Island, South Dakota, Texas, Utah, Wyoming, and Washington; for certain oil and gas facilities in the States of Oklahoma and Texas not on Indian Country lands; and Federal facilities located in Colorado, Delaware, Vermont and Washington. This final action was previously corrected on January 9, 2001 (66 FR 1675-1678) and March 23, 2001 (66 FR 16233-16237).

Today's notice provides final reissuance of the NPDES storm water MSGP for storm water discharges in the State of Alaska, and in Indian country within the State of Montana.

II. Notice of Final NPDES Storm Water Permit in Alaska

On March 30, 2000 (65 FR 17010), EPA proposed the MSGP for the State of Alaska. EPA was not able to provide notice of the final permit in Alaska on October 30, 2000 when the MSGP was published, because at that time the State of Alaska had not concluded proceedings to certify compliance with Alaska water quality standards (pursuant to Clean Water Act section 401) and to determine consistency with the State's coastal zone management program.

Today's action reissues EPA's NPDES Storm Water Multi-Sector General Permit for the State of Alaska. The permit's terms and conditions are those set forth at 65 FR 64801-64880 published on October 30, 2000 and corrected on January 9, 2001 (66 FR 1675-1678) and March 23, 2001 (66 FR 16233-16237). This action adds the state-specific requirements provided by the State of Alaska under section 401 of the Clean Water Act, and specifically sets the date by which facilities in Alaska must submit their Notice of Intent application.

The effective date of this MSGP permit for the State of Alaska is April 16, 2001. To accommodate a consistent permit schedule which aligns Alaska's MSGP with those of other states and territories, this permit and authorization to discharge from facilities located in Alaska expires at midnight, October 30, 2005.

Notices of Intent (NOIs) to be covered under this permit must be submitted to EPA as indicated in Part 2 of the MSGP published on October 30, 2000. For Alaskan facilities seeking continued coverage of existing discharges under the MSGP, Notices of Intent must be submitted no later than July 16, 2001, which is ninety (90) days after the effective date of this permit.

Section 401 of the Clean Water Act provides that no Federal license or permit, including NPDES permits to conduct any activity that may result in any discharge into navigable waters, shall be granted until the State in which the discharge originates certifies that the discharge will comply with the applicable provisions of sections 301, 302, 303, 306, and 307 of the CWA, or waives certification. The section 401 certification process has been completed for the State of Alaska. Alaska CWA 401 conditions provide that the storm water pollution prevention plan shall be approved and sealed by a Professional Engineer registered in the State of Alaska and submitted to the Alaska Department of Environmental Conservation for review and approval at the address listed below. Approval must be obtained prior to discharge, and the state's plan review fee must be paid according to provisions of state law. A copy of the Notice of Intent form, in addition to the NOI already required to be submitted to EPA, must also be sent to the address indicated below. In addition, a copy of any Notice of Termination must be submitted to the Alaska Department of Environmental Conservation, as well. The address of the state office to which copies are to be sent is:

Alaska Department of Environmental Conservation, Water Quality Permitting Section/Storm water, 555 Cordova Street, Anchorage, Alaska 99501.

III. Montana Indian Country

The Federal Register publication of October 30, 2000 reserved issuance of the MSGP for Montana Indian country because of a lawsuit for development of total maximum daily loads (TMDLs) for impaired waterbodies in Montana. On June 21, 2000 and September 21, 2000, U.S. District Judge Donald W. Malloy issued orders stating that until all necessary TMDLs under Section 303(d) of the Clean Water Act are established for a particular water quality limited segment, the EPA is not to issue any new permits or increase permitted discharges under the NPDES program. The orders were issued in the lawsuit Friends of the Wild Swan, Inc., et al., v. U.S. E.P.A., et al., CV 97-35-M-DWM, District of Montana, Missoula Division. After further review of the Court's orders, EPA finds that the issuance of the MSGP for Indian country in Montana does not conflict with the Court's orders because: (1) The permit is not new, being a replacement for the previously issued general permit for storm water discharges from industrial activities; (2) the 1996 and subsequent Montana section 303(d) lists of impaired waters, as approved by EPA, did not include waters within Indian country in Montana; (3) the permit prohibits storm water discharges that cause or contribute to water quality standards violations, meaning that discharges of storm water from industrial activities in compliance with the conditions of this permit are not likely to have an adverse effect on any waterbody in Montana that has been listed under section 303(d) of the Clean Water Act.

Today's action issues EPA's NPDES Storm Water Multi-Sector General Permit for Indian country in the State of Montana, which replaces the Baseline Industrial General Permit. The permit's terms and conditions are those set forth at 65 FR 64801-64880 published on October 30, 2000 and corrected on January 9, 2001 (66 FR 1675-1678) and March 23, 2001 (66 FR 16233-16237).

The effective date of this MSGP for Indian country in the State of Montana is April 16, 2001. To accommodate a consistent permit schedule which aligns this MSGP with those of other states and territories, this permit and authorization to discharge from facilities located in Indian country in Montana expires at midnight, October 30, 2005.

Notices of Intent (NOIs) to be covered under this permit must be submitted to EPA as indicated in Part 2 of the MSGP published on October 30, 2000. For facilities located in Indian country in Montana seeking coverage of existing discharges under the MSGP, Notices of Intent must be submitted no later than July 16, 2001, which is ninety (90) days after the effective date of this permit.

Economic Impact (Executive Order 12866)

EPA has determined that the reissuance of these general permits for Alaska and for Montana Indian country is not a “significant regulatory action” under the terms of Executive Order 12866 (58 FR 51735 (October 4, 1993)) and is therefore not subject to formal OMB review prior to proposal.

Paperwork Reduction Act

EPA has reviewed the requirements imposed on regulated facilities resulting from these final MSGPs under the Paperwork Reduction Act, 44 U.S.C. § 3501 et seq. The information collection requirements of these permits have already been approved by the Office of Management and Budget (OMB Control Numbers 2040-0004, 2040-0086, 2040-0110 and 2040-0211) in submissions made for the NPDES permit program under the provisions of the Clean Water Act.

Regulatory Flexibility Act (RFA)

The RFA generally requires that EPA prepare a regulatory flexibility analysis for rules subject to the requirements of 5 U.S.C. 553(b) that have a significant impact on a substantial number of small entities. The permits issued today, however, are not “rules” subject to the requirements of 5 U.S.C. 553(b) and are therefore not subject to the RFA.

Unfunded Mandates Reform Act (UMRA)

Section 201 of UMRA generally requires Federal agencies to assess the effects of their “regulatory actions” (defined to be the same as “rules” subject to the RFA) on tribal, state, and local governments and the private sector. The permits issued today, however, are not “rules” subject to the RFA and are therefore not subject to the requirements of UMRA.

Authority: Clean Water Act, 33 U.S.C. 1251 et seq.

In compliance with the provisions of the Clean Water Act, as amended, (33 U.S.C. 1251 et seq.), operators of point source discharges of storm water associated with industrial activity that are located in the State of Alaska, except Indian country lands, and in Indian country lands within the State of Montana are authorized to discharge pollutants to waters of the United States in accordance with the conditions and requirements set forth in the “Final Reissuance of National Pollutant Discharge Elimination System (NPDES) Storm Water Multi-Sector General Permit for Industrial Activities” issued on October 30, 2000 (65 FR 64746), and corrected on January 9, 2001 (66 FR 1675) and March 23, 2001 (66 FR 16233), with the five alterations to permit language appearing below.

1. Part 1.1.8, for Montana remove the word “Reserved,” and replace with the following:

Permit No. | Areas of coverage/where EPA is permitting authority
MTR05*##I | Indian country lands within the State of Montana.

2. Part 1.1.10, remove the sentence, “EPA will reissue this permit for the State of Alaska at a later date.” Revise table to include the entry:

Permit No. | Areas of coverage/where EPA is permitting authority
AKR05*### | The State of Alaska, except Indian country lands.

3. Table 2-1, Deadlines for NOI Submittal, add the following dates for the State of Alaska and Indian country within the State of Montana:

Table 2-1—Deadlines for NOI Submittal
Category | Deadline
1A. Existing discharges covered under the 1995 MSGP within the State of Alaska, and the Baseline Industrial General Permit for Indian country within the State of Montana (see also Part 2.1.2—Interim Coverage) | July 16, 2001.

4. Part 13.10.1, remove the sentence: “(The terms and conditions of the 1995 Multi-Sector General Permit are effective for facilities in the State of Alaska through February 9, 2001.)” and replace with the following: AKR05*###: The State of Alaska, except Indian country lands.

5. Add the following:

Part 13.10.1.1 Permittees in Alaska must also meet the following conditions:

1. A copy of the Notice of Intent shall be sent to the following Department of Environmental Conservation office: Alaska Department of Environmental Conservation, Water Quality Permitting Section/Storm Water, 555 Cordova Street, Anchorage, Alaska 99501.

2. Pollution Prevention Plans shall be approved and sealed by a Professional Engineer registered in the state of Alaska and submitted to the Alaska Department of Environmental Conservation, at the above address, for review and approval. Approval must be obtained prior to discharge. Either a check for the plan review fee will be paid to the department prior to the departments commencing plan review, or a reimbursement agreement will be in place for NPDES permits associated with the project (18 A.A.C. 72.600 9(a) and 18 A.A.C. 72.610(8)).

3. A copy of the Notice of Termination shall be sent to the above Alaska Department of Environmental Conservation office.

Region 8
Signed and issued this 3rd day of April 2001.
Stephen S. Tuber,
Acting Assistant Regional Administrator, Office of Partnerships and Regulatory Assistance.
Region 10
Signed and issued this 27th of March 2001.
Randall F. Smith,
Director, Office of Water.

[FR Doc. 01-9364 Filed 4-13-01; 8:45 am]

BILLING CODE 6560-50-P